DEPARTMENT OF HEALTH AND HUMAN SERVICES

National Institutes of Health

Center for Scientific Review; Amended Notice of Meeting

Notice is hereby given of a change in the meeting of the Center for Scientific Review Special Emphasis Panel, June 27, 2002, 9 a.m. to June 27, 2002, 10 a.m., Melrose Hotel, 2430 Pennsylvania Avenue, NW., Washington, DC 20037 which was published in the Federal Register on June 12, 2002, 67 FR 40326-40329.

The meeting will be held on June 28, 2002. The time and location remain the same. The meeting is closed to the public.

Dated: June 18, 2002.
LaVerne Y. Stringfield,
Director, Office of Federal Advisory Committee Policy.

[FR Doc. 02-16078 Filed 6-25-02; 8:45 am]

BILLING CODE 4140-01-M